DEPARTMENT OF COMMERCE

Foreign-Trade Zones Board

[Docket 54-2002]

Foreign-Trade Zone 202—Los Angeles, CA Area; Application for Expansion and Reorganization

An application has been submitted to the Foreign-Trade Zones (FTZ) Board (the Board) by the Board of Harbor Commissioners of the City of Los Angeles, grantee of FTZ 202, requesting authority to expand and reorganize its zone in the Los Angeles, California area, within and adjacent to the Los Angeles-Long Beach Customs port of entry. The application was submitted pursuant to the provisions of the Foreign-Trade Zones Act, as amended (19 U.S.C. 81a-81u), and the regulations of the Board (15 CFR part 400). It was formally filed on November 21, 2002.

FTZ 202 was approved on July 14, 1994 (Board Order 693, 59 FR 37464, July 22, 1994) and expanded on August 26, 1996 (Board Order 842, 61 FR 46763, September 5, 1996) and July 9, 1999 (Board Order 1043, 64 FR 38887, July 20, 1999). The zone project currently consists of 15 sites (4,514) at port facilities, industrial parks and warehouse facilities in Los Angeles County.

The applicant is now requesting authority to expand and reorganize the general-purpose zone to include on a permanent basis Temporary Sites 12, 13 and 14, to restore 44 acres deleted from Site 9, to permanently delete 78 acres from Site 3, and, to include seven new sites in Los Angeles and the adjacent “Inland Empire” area.

The sites to be made permanent are as follows: Site 12 (8 acres)—1981 East 213th Street, Carson; Site 13 (19 acres)—1501 E. Victoria Street, Carson; and, Site 14 (88 acres)—adjacent to Site 1, at 300, 301, 400, and 401 Westmont Street, San Pedro. Site 9, which is located at the Harbor Gateway Center, will be restored to its original 128 acres. Site 3, at the International Trade & Technology Center, will be decreased by 78 acres (new total—564 acres). The proposed new sites would include: Proposed Site 16 (163 acres)—Artesia Corridor Commerce Park (owned by AMB Properties Corp.), northbound side of the intersection of S. Wilmington Avenue and Highway 91 (the Redondo Beach Freeway), Compton; Proposed Site 17 (9 acres, 2 parcels)—Tri-Modal's Lucerne facility (7 acres—owned by Tri-Modal Distribution Services, Inc.), 22560 Lucerne Street, Carson, and Tri-Modal's Watson Center facility (2 acres), 1411 Watson Center Road, Carson; Proposed Site 18 (13 acres)—Tri-Modal's Carson facility (owned by Tri-Modal Distribution Services, Inc.), 2011 East Carson Street, Carson; Proposed Site 19 (71 acres)—Chino South Business Park (owned by the Carson Companies), bounded by Kimball Avenue, Euclid Avenue, Cypress Avenue and Bickmore Avenue, Chino; Proposed Site 20 (531 acres)—Park Mira Loma West (owned by Industrial Developments International), located on the southeast side of the intersection of Highway 60 (the Pamona Freeway) and Interstate 15 (the Ontario Freeway), Mira Loma; Proposed Site 21 (156 acres)—Pattillo Properties Redlands Commerce Center (owned by Robert Pattillo Properties), bounded by California Street on the east and San Bernardino Avenue on the south, Redlands; and, Proposed Site 22 (227 acres)—Bixby Land Company Redlands Business Center (owned by Bixby Land Company), bounded by San Bernardino Avenue, California Street, Mountain View and West Lugonia Avenues, Redlands. No specific manufacturing requests are being made at this time. Such requests would be made to the Board on a case-by-case basis.

In accordance with the Board's regulations, a member of the FTZ Staff has been designated examiner to investigate the application and report to the Board.

Public comment on the application is invited from interested parties. Submissions (original and three copies) shall be addressed to the Board's Executive Secretary at one of the following addresses:

1. Submissions via Express/Package Delivery Services: Foreign-Trade Zones Board, U.S. Department of Commerce, Franklin Court Building—Suite 4100W, 1099 14th Street, NW., Washington, DC 20005; or

2. Submissions via the U.S. Postal Service: Foreign-Trade Zones Board, U.S. Department of Commerce, FCB—Suite 4100W, 1401 Constitution Avenue, NW., Washington, DC 20230.

The closing period for their receipt is February 4, 2003. Rebuttal comments in response to material submitted during the foregoing period may be submitted during the subsequent 15-day period (to February 19, 2003).

A copy of the application and accompanying exhibits will be available during this time for public inspection at address number 1 listed above, and at the U.S. Department of Commerce Export Assistance Center, 350 S. Figueroa Street, Suite 509, Los Angeles, California 90071.

Dated: November 26, 2002.
Dennis Puccinelli,
Executive Secretary.

[FR Doc. 02-30873 Filed 12-5-02; 8:45 am]

BILLING CODE 3510-DS-P